DEPARTMENT OF ENERGY

Federal Energy Regulatory Commission

[Project Nos. 588-000 and 2683-003]

James River II, Inc.; Notice Terminating Proceedings

March 10, 2000.

The above-captioned dockets involve licensing proceedings for the Glines Canyon Project No. 588 and the Elwha Project No. 2683, located on or near the Olympic National Park in Washington State. The Elwha River Ecosystem and Fisheries Restoration Act, Pub. L. No. 102-495, 106 Stat. 3173 (1992), removed the Commission's jurisdiction to process the applications in these dockets, but left a residual jurisdiction to preserve the status quo. Pursuant to appropriations legislation enacted by Congress in 1999, and a statutory warranty deed dated February 29, 2000, title to the two projects has been transferred to the U.S. Department of the Interior, which now owns and manages the projects. Accordingly, the Commission's jurisdiction over these projects having been fully extinguished, the above-captioned dockets are closed and the proceedings therein are terminated.

David P. Boergers,
Secretary.

[FR Doc. 00-6456 Filed 3-15-00; 8:45 am]

BILLING CODE 6717-01-M